DEPARTMENT OF COMMERCE

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: Alaska Region Permit Family of Forms.

Form Number(s): None.

OMB Approval Number: 0648-0206.

Type of Request: Regular submission.

Burden Hours: 378.

Number of Respondents: 886.

Average Hours Per Response: Federal fisheries permits and processor permits, 21 minutes; and exempted fishing permits, 20 hours.

Needs and Uses: The information from this collection is used to monitor and manage participation in groundfish fisheries by National Marine Fisheries Service, Alaska Region, and consists of the following permits: Federal fisheries permit, Federal processor permit, and exempted fishing permit. The permit information provides: harvest gear types; descriptions of vessels, shoreside processors, and stationary floating processors; and expected fishery activity levels. The identification of the participants and expected activity levels are needed to measure the consequences of management controls, and is an effective tool in the enforcement of other fishery regulations.

Affected Public: Individuals or households; business or other for-profit organizations.

Frequency: Federal fisheries permits and processor permits, every three year; exempted fishing permits, annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 5, 2006.
Gwellnar Banks,
Management Analyst, Office of the Chief Information Officer.

[FR Doc. E6-10897 Filed 7-11-06; 8:45 am]

BILLING CODE 3510-22-P